ENVIRONMENTAL PROTECTION AGENCY

[FRL-6985-6]

Notice of Availability for the State, Local, and Tribal Technical Assistance Document for Implementing the Revised Subpart E (Section 112(l)) Provisions

AGENCY: Environmental Protection Agency (EPA).

ACTION: Notice of availability.

SUMMARY: The EPA is making available for the public a technical assistance document to aid State, Local, and Tribal air pollution control agencies (S/L/Ts) in implementing the revised 40 CFR part 63, subpart E provisions. Subpart E, which was originally promulgated in November 1993 and recently revised in September 2000, codifies section 112(l) of the Clean Air Act. Section 112(l) mandates EPA to provide guidance to S/L/Ts for delegating to them the authority to implement and enforce hazardous air pollutant (HAP) standards and requirements of section 112. Congress recognized that some S/L/Ts had developed their own HAP standards and requirements, and therefore, in addition, mandated that EPA develop provisions to allow S/L/Ts to substitute their rules, requirements, and programs, when demonstrated to be as stringent, in lieu of corresponding Federal section 112 requirements.

Prior to the revisions in September 2000 when S/L/Ts began using Subpart E to substitute their rules, requirements, and programs for section 112 HAP requirements and standards, they found the provisions to be inflexible and too burdensome. After meeting with S/L/Ts, EPA agreed to revisit the rule to make it more flexible. After many discussions and public meetings with stakeholders to understand their concerns and issues, providing a draft for their review, and conducting pilot projects with stakeholders in California, EPA proposed the revisions in January 1999. After reviewing the public comments received, EPA resolved to address all stakeholder concerns and provide even more flexibility and authorities to S/L/Ts in the final rulemaking. Because there was extensive revisions from the existing as compared to the final rule, EPA is publishing technical assistance to aid S/L/Ts in the implementation of the final rule.

FOR FURTHER INFORMATION CONTACT: Thomas Driscoll, Office of Air Quality Planning and Standards, U.S. EPA Region 8, 999 18th Street, Denver, CO 80202-2466, telephone (303) 312-6785 or E-mail driscoll.tom@epa.gov.

SUPPLEMENTARY INFORMATION: A copy of the technical assistance document may be obtained by calling or E-mailing Pamela J. Smith at 919-541-0641 or smith.pam@epa.gov. The technical assistance document may also be downloaded from the Unified Air Toxics Web Site at http://www.epa.gov/ttn/atw/112(l)/112-lpg.html.

Dated: May 10, 2001.
John S. Seitz,
Director, Office of Air Quality Planning and Standards.

[FR Doc. 01-13417 Filed 5-25-01-01; 8:45 am]

BILLING CODE 6560-50-U